FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 21, 2017.

A. Federal Reserve Bank of Minneapolis (Jacquelyn K. Brunmeier, Assistant Vice President) 90 Hennepin Avenue, Minneapolis, Minnesota 55480-0291:

1. Cassie Harrington, individually and as co-trustee of Foresight Bank Employee Stock Ownership Plan (ESOP), both of Plainview, Minnesota; to retain shares of Plainview Bankshares, Inc., Plainview, Minnesota (PBI), and thereby indirectly retain shares of Foresight Bank, Plainview, Minnesota. In addition, the following persons are filing to retain shares of PBI and thus remain members of the Harrington Family Shareholder Group, a group acting in concert, which owns shares of PBI: Sally Harrington, Plainview, Minnesota; Amanda Raines; Issaquah, Washington; Daniel Broome-Raines, Issaquah, Washington; Anton Harrington, Plainview, Minnesota; Julia Harrington, Elgin, Minnesota; Mitchell Harrington, Plainview, Minnesota; Abigail Harrington, Plainview, Minnesota; Nathan Harrington, Plainview, Minnesota; David Harrington, Plainview, Minnesota; Beatrice Harrington, Plainview, Minnesota; Molly Harrington, St. Paul, Minnesota; Ryan Harrington, Lommatzsch, Saxony, Germany; the Harrington Living Trust and Van Harrington, trustee, both of Maiden Rock, Wisconsin; William Harrington, individually and as co-trustee of ESOP, Elgin, Minnesota; Community Presbyterian Church and Kent Harrington as session member, both of Plainview, Minnesota.

Board of Governors of the Federal Reserve System, March 31, 2017.
Yao-Chin Chao,
Assistant Secretary of the Board.

[FR Doc. 2017-06729 Filed 4-4-17; 8:45 am]

BILLING CODE 6210-01-P